DEPARTMENT OF JUSTICE

[OMB Number 1105-0092]

Agency Information Collection Activities; Proposed eCollection eComments Requested; Extension Without Change of a Previously Approved Collection; September 11th Victim Compensation Fund Claim Form

AGENCY: September 11th Victim Compensation Fund, Department of Justice.

ACTION: 30-Day notice.

SUMMARY: The Department of Justice (DOJ), Civil Division, September 11th Victim Compensation Fund (“VCF” or “Fund”), will be submitting the following information collection request to the Office of Management and Budget (OMB) for review and approval in accordance with the Paperwork Reduction Act of 1995. This proposed information collection was previously published in the Federal Register, allowing for a 60 day comment period.

DATES: Comments are encouraged and will be accepted for 30 days until July 22, 2019.

FOR FURTHER INFORMATION CONTACT: If you have additional comments especially on the estimated public burden or associated response time, suggestions, or need a copy of the proposed information collection instrument with instructions or additional information, please contact Jordana H. Feldman, Deputy Special Master, September 11th Victim Compensation Fund, P.O. Box 34500, Washington, DC 20043 (phone: 1-855-885-1555).

SUPPLEMENTARY INFORMATION: Written comments and suggestions from the public and affected agencies concerning the proposed collection of information are encouraged. Your comments should address one or more of the following four points:

—Evaluate whether the proposed collection of information is necessary for the proper performance of the functions of the Fund, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Extension of a currently approved collection.

(2) The Title of the Form/Collection: VCF Claim Form.

(3) The agency form number, if any, and the applicable component of the Department sponsoring the collection: N/A. Civil Division.

(4) Affected public who will be asked or required to respond, as well as a brief abstract: The September 11th Victim Compensation Fund provides compensation to any individual (or beneficiary of a deceased individual) who was physically injured or killed as a result of the terrorist-related aircraft crashes of September 11, 2001. The information collected from the VCF Claim Form will be used to determine whether claimants are eligible for compensation from the Fund, and if so, the amount of compensation they will be awarded. The Form consists primarily of two main sections: Eligibility and Compensation.

The Eligibility section seeks the information required by the James Zadroga 9/11 Health and Compensation Act of 2010 (“Zadroga Act”), Public Law 111-347 (January 2, 2011), as amended by James Zadroga 9/11 Victim Compensation Fund Reauthorization Act, Public Law 114-113 (December 18, 2015) (“Reauthorization Act”) to determine whether a claimant is eligible for the Fund, including information related to: Participation in lawsuits related to September 11, 2001; presence at a 9/11 crash site between September 11, 2001 and May 30, 2002; and physical harm suffered as a result of the air crashes and/or debris removal.

The Compensation section seeks the information required by the Zadroga Act, as reauthorized, to determine the amount of compensation for which the claimant is eligible. Specifically, the section seeks information regarding the claimant's loss of earnings or replacement services that are attributable to the 9/11 air crashes or debris removal; and any collateral source payments (such as insurance payments) that the claimant received or is entitled to receive and are attributable to the 9/11 air crashes or debris removal efforts.

(5) An estimate of the total number of respondents and the amount of time estimated for an average respondent to respond: It is estimated that 65,000 respondents will complete the form in an average of 10 hours, including the time needed to gather the required supporting documentation.

(6) An estimate of the total public burden (in hours) associated with the collection: The estimated public burden associated with this collection is 650,000 hours.

If additional information is required, contact Melody Braswell, Department Clearance Office, United States Department of Justice, Justice Management Division, Policy and Planning staff, Two Constitution Square, 145 N Street NE, 3E, 405A, Washington, DC 20530.

Dated: June 18, 2019.
Melody Braswell,
Department Clearance Officer for PRA, U.S. Department of Justice.

[FR Doc. 2019-13190 Filed 6-20-19; 8:45 am]

BILLING CODE 4410-12-P